DEPARTMENT OF HEALTH AND HUMAN SERVICES

Centers for Disease Control and Prevention

[Program Announcement 02163]

Support for Civil Society Organizations Responding to HIV/AIDS in Zimbabwe; Notice of Availability of Funds

A. Purpose

The Centers for Disease Control and Prevention (CDC) announces the availability of fiscal year (FY) 2002 funds for a Cooperative Agreement program to Support Civil Society Organizations Responding to HIV/AIDS in Zimbabwe.

The purpose of this cooperative agreement is to provide support to civil society organizations responding to the HIV/AIDS epidemic in Zimbabwe. Civil society in Zimbabwe can and does play a critical role in strengthening the national response to the HIV/AIDS epidemic. AIDS Service Organizations (ASOs), communities of faith, educational and theatre groups and other non-governmental organizations have the ability to efficiently reach target audiences and to effectively provide education, training, prevention, clinical care and psychosocial support services.

Specifically, CDC intends to focus its support on: (1) AIDS Service Organizations (ASO) with national or regional missions and activities or cross-cutting activities that are not compatible with the District AIDS Action Committee (DAAC) Initiative; (2) ASO infrastructure or administrative support that is needed to complement a unique, supporting role that the ASO is playing as a member of a DAAC, or to complement a situation in which the ASO has received funding for program services but not for administrative support needed to properly manage those resources; and (3) faith organizations implementing activities that involve progressive involvement in major HIV/AIDS programs already underway in Zimbabwe.

B. Eligible Applicants

Applications may be submitted by nonprofit voluntary organizations, including faith-based organizations, responding to or working with HIV/AIDS in Zimbabwe and are registered under the laws of Zimbabwe.

C. Availability of Funds

Approximately $300,000 is available in FY 2002 to fund multiple awards averaging from $30,000 to $50,000 per award. It is expected that the awards will begin on or about September 30, 2002, and will be made for a 12-month budget period within a project period of up to five years. Funding estimates may change.

Continuation awards within an approved project period will be made on the basis of satisfactory progress as evidenced by required reports and the availability of funds.

Use of Funds

Antiretroviral Drugs

Funds received from this announcement will not be used for the purchase of antiretroviral drugs for treatment of established HIV infection (with the exception of nevirapine in the prevention of mother to child transmission (PMTCT) cases and with prior written approval), occupational exposures and non-occupational exposures, and will not be used for the purchase of machines and reagents to conduct the necessary laboratory monitoring for patient care.

Applicants may contract with other organizations under these cooperative agreements; however, applicants must perform a substantial portion of the activities, including program management and operations and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Federal law requires that no funds appropriated under this Act shall be used to carry out any program of distributing sterile needles or syringes for the hypodermic injection of any illegal drug.

D. Program Requirements

In conducting activities to achieve the purpose of this program, the recipient(s) will be responsible for the activities under 1. Recipient Activities, and CDC will be responsible for the activities listed under 2. CDC Activities.

1. Recipient Activities

a. Strengthen the Operational Capacity of Civil Society Organizations Responding to HIV/AIDS in Specific Districts and/or Regions in Zimbabwe.

For AIDS Service Organizations

Expand and improve the capacity of ASOs and other organizations vis-a-vis operational systems (e.g., physical plant, personnel, budgeting, proposal writing, disbursement, financial oversight, reporting, evaluation) to increase the agency responsiveness to clients, donors and other constituents. For ASOs, this requested operations support should be proposed in one of four contexts:

(1) The ASO has received substantial funding to provide services, but has not been allowed funding for administrative and operational support.

(2) The ASO has been asked to play an important role in a District AIDS Action Committee (DAAC), but has not been provided with additional or sufficient resources to support those duties.

(3) The ASO has been taking on or has identified for itself a key role in mentoring or training other ASOs, DAACs, or other agents of the local response to HIV/AIDS.

(4) The ASO is playing a key role in the national response to HIV/AIDS at either a provincial or national level and, as such, is not currently meeting funding priorities of NAC or other donor agencies.

For Faith-Based Organizations

Expand and improve the capacity of pastors, ministers, priests, laity, or other members of the Denomination to effectively provide scientifically correct information that goes beyond awareness on HIV/AIDS to the populations they serve. Proposals will promote behavior change and reduction in stigma for HIV/AIDS, and reconciling accurate information with religious values while using the modes of communication that are best-accepted and most effective for the population in question. Such proposals should be linked to a source of correct information and technical assistance on HIV/AIDS, such the Zimbabwe Council of Churches' AIDS Program, CDC Zimbabwe Office, Modeling and Reinforcement to Combat HIV/AIDS (MARCH), or other sources that should be referenced in the application.

b. Expand Prevention, Care and Support Services Provided Through Civil Society Organizations.

Strengthen key organizations at district and/or regional level to provide expanded prevention, care and support services to persons with HIV/AIDS.

2. CDC Activities

a. Collaborate with the Recipient on designing and implementing the activities listed above, including but not limited to the provision of technical assistance to develop and implement program activities, analyses, and capacity building assistance.

b. When necessary, procure specific services, equipment and supplies, as well as other materials required to support implementation of activities covered under this agreement.

c. Monitor project and budget performance.

E. Content

Letter of Intent (LOI)

A LOI is required for this program. The narrative should be no more than two (2) double-spaced pages, printed on one side, with one-inch margins, and 12 point font. Your letter of intent will be used to help plan the review process, and should include the following information: (a) Principal organization, (b) Partners, Districts, Regions Involved, (c) 500 word (or less) abstract outlining “Central Concepts” to be developed more fully in the complete application, (d) 300 word (or less) statement of qualifications and capacity to estimate the amount of funds to be requested.

Applications

Use the information in the Program Requirements, Other Requirements, and Evaluation Criteria sections to develop the application content. Your application will be evaluated on the criteria listed, so it is important to follow them in laying out your program plan. The narrative should not be more than 20 double-spaced pages, printed on one side, with one-inch margins, and 12 point font.

The narrative should consist of, at a minimum, a Plan, Objectives, Methods, Evaluation and Budget.

F. Submission and Deadline

Letter of Intent (LOI)

On or before June 15, 2002, submit the LOI to the Grants Management Specialist identified in the “Where to Obtain Additional Information” section of this announcement.

Application

Submit the original and two copies of PHS 5161-1 (OMB Number 0920-0428) Forms are available in the application kit and at the following Internet address: www.cdc.gov/od/pgo/forminfo.htm.

On or before August 15, 2002, submit the application to: Technical Information Management, Procurement and Grants Office, Centers for Disease Control and Prevention, 2920 Brandywine Rd, Room 3000, Atlanta, GA 30341-4146.

Deadline: Letters of Intent and final Applications shall be considered as meeting the deadline if they are received on or before the deadline date.

Late: Letters of Intent and Applications which do not meet the above criteria will be returned to the applicant.

G. Evaluation Criteria

Applicants are required to provide Measures of Effectiveness that will demonstrate the accomplishment of the various identified objectives of the cooperative agreement. Measures of Effectiveness must relate to the performance goals as stated in section “A. Purpose” of this announcement. Measures must be objective and quantitative and must measure the intended outcome. These Measures of Effectiveness shall be submitted with the application and shall be an element of evaluation.

The criteria used to evaluate the application will include all of the criteria outlined in the recipient requirements inclusive of a plan, objectives, methods, evaluation, and budget. Each application will be evaluated individually against the following criteria by an independent review group appointed by CDC:

Capacity (40 points)

Strengthening operational capacity of civil service organizations. (20 points)

Expanding prevention, care and support services provided by civil society organizations. (20 points)

Understanding the Purpose of the Overall Plan of the Application (15 points)

A cogent, brief summary of critical issues; succinct, coherent understanding of the purpose of the program announcement; and cross-cutting, cost-effective approaches to responding to the announcement.

Objectives (15 points)

Compile a translation of the general purposes of the program announcement into no more than four specific objectives, products, or outputs of the cooperative agreement.

Methods (15 points)

Enunciation of a methodology appropriate for accomplishing the objectives outlined above.

Evaluation (15 points)

A brief explanation of how internal monitoring and evaluation of this program will contribute to strengthening and institutionalization of this program during the period of the cooperative agreement.

Budget and Cost-Effectiveness (Not Scored)

Creative and convincing approaches to resource utilization (financial, personnel, computing, etc.) to lead to a major impact of available resources.

Human Subjects (Not Scored)

The extent to which the application adequately addresses the requirements listed in the 45 CFR part 46 for the protection of human subjects.

H. Other Requirements

Technical Reporting Requirements

1. Provide CDC with original plus two copies of the quarterly progress reports.

2. Financial status report, no more than 90 days after the end of the budget period.

3. Final financial report and performance report, no more than 90 days after the end of the project period

4. Measures of effectiveness that will demonstrate the accomplishment of the various identified objectives of the grant/cooperative agreement. Measures must be objective/quantitative and must measure the intended outcome. These Measures of Effectiveness shall be submitted with your application and shall be an element of evaluation.

Obtain annual audit of these CDC funds (program-specific audit) by a U.S.-based audit firm with international branches and current licensure/authority in country and in accordance with International Accounting Standards or equivalent standard(s) approved in writing by CDC.

A fiscal Recipient Capability Assessment may be required with the potential awardee, prior or post award, in order to review their business management and fiscal capabilities regarding the handling of U.S. Federal funds.

Send all reports to the Grants Management Specialist identified in the “Where to Obtain Additional Information” section of this announcement.

The following additional requirements are applicable to this program. For a complete description of each, see Attachment I of the announcement.

—1AR-1 Human Subjects Requirements

—1AR-2 Requirements for Inclusion of Women and Racial and Ethnic Minorities in Research

—1AR-4 HIV/AIDS Confidentiality Provisions

—1AR-12 Lobbying Restrictions

—1AR-14 Accounting System Requirements

—1AR-15 Proof of Non-Profit Status

—1AR-22 Research Integrity

I. Authority and Catalog of Federal Domestic Assistance Number

This program is authorized under section 307 of the Public Health Service Act, (42 U.S.C. 2421), as amended. The Catalog of Federal Domestic Assistance number is 93.118.

J. Where to Obtain Additional Information

This and other CDC announcements can be found on the CDC home page Internet address— http://www.cdc.gov. Click on “Funding” then “Grants and Cooperative Agreements.”

To receive additional written information and to request an application kit, call 1-888-GRANTS4 (1-888-472-6874). You will be asked to leave your name and address and will be instructed to identify the Program Announcement number of interest.

To obtain business management technical assistance, contact: Dorimar Rosado, Grants Management Specialist, Grants Management Branch, Procurement & Grants Office, Centers for Disease Control and Prevention, Room 3000, 2920 Brandywine Road, Atlanta, GA 30341-4146. Telephone: (770) 488-2782. E-mail: dpr7@cdc.gov.

For program technical assistance, contact: Mark D. Fussell, Global AIDS Program (GAP), Zimbabwe Country Team, National Center for HIV, STD, and TB Prevention, Centers for Disease Control and Prevention (CDC), Zim-CDC AIDS Project Team, 38 Samora Machel Avenue, 2nd Floor, Harare, Zimbabwe. Telephone: 263 4 796040, 796048. Fax: 263 4 796032. E-mail: fussellm@zimcdc.co.zw.

Dated: May 17, 2002.
Edward Schultz,
Acting Director, Procurement and Grants Office, Centers for Disease Control and Prevention.

[FR Doc. 02-12931 Filed 5-22-02; 8:45 am]

BILLING CODE 4163-18-P